ENVIRONMENTAL PROTECTION AGENCY

[EPA-HQ-RCRA-2015-0836; FRL-9992-66-OMS]

Information Collection Request Submitted to OMB for Review and Approval; Comment Request; Collection of Information on Anaerobic Digestion Facilities Processing Wasted Food To Support EPA's Sustainable Food Management Program (Revision)

AGENCY: Environmental Protection Agency (EPA).

ACTION: Notice.

SUMMARY: The Environmental Protection Agency (EPA) has submitted an information collection request (ICR), Collection of Information on Anaerobic Digestion Facilities Processing Wasted Food to support EPA's Sustainable Food Management Program (EPA ICR Number 2533.02, OMB Control Number 2050-0217) to the Office of Management and Budget (OMB) for review and approval in accordance with the Paperwork Reduction Act. This is a proposed revision of the ICR, which is currently approved through December 31, 2019. Public comments were previously requested via the Federal Register on October 3, 2018 during a 60-day comment period. This notice allows for an additional 30 days for public comments. A fuller description of the ICR is given below, including its estimated burden and cost to the public. An agency may not conduct, or sponsor and a person is not required to respond to a collection of information unless it displays a currently valid OMB control number.

DATES: Additional comments may be submitted on or before June 21, 2019.

ADDRESSES: Submit your comments, referencing Docket ID Number EPA-HQ-RCRA-2015-0836, to (1) EPA online using www.regulations.gov (our preferred method), or by mail to: EPA Docket Center, Environmental Protection Agency, Mail Code 28221T, 1200 Pennsylvania Ave., NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Melissa Pennington, U.S. Environmental Protection Agency, Region 3, Mail Code 3LC33, Environmental Protection Agency, 1200 Pennsylvania Ave. NW, Washington, DC 20460; telephone number: (215) 814-3372; fax number: 215-814-3114; email address: pennington.melissa@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA's Sustainable Food Management (SFM) Program promotes the sustainable management of food which is a systematic approach that seeks to reduce wasted food and its associated impacts over its' entire lifecycle. The lifecycle of food includes use of natural resources, manufacturing, sales, and consumption and ends with decisions on recovery or final disposal. Diversion of food waste from landfills is a critical component of this effort. In order to effectively divert food waste from landfills, sufficient capacity to process the diverted materials is required. Knowledge of organics recycling capacity is needed to facilitate food waste diversion and anaerobic digestion facilities provide a significant amount of the needed capacity.

EPA's food recovery hierarchy prioritizes potential actions to prevent and divert wasted food. According to the hierarchy, processing wasted food via anaerobic digestion is a more desirable option than landfilling or incineration because it creates more benefits for the environment, society and the economy. Anaerobic digestion of food waste and other organic materials generates renewable energy, reduces methane emissions to the atmosphere, and provides opportunities to improve soil health through the production of soil amendments. The SFM program supports these efforts by educating state and local governments and communities about the benefits of wasted food diversion. The SFM program also builds partnerships with state agencies and other strategic partners interested in developing organics recycling capacity and provides tools to assist organizations in developing anaerobic digestion (AD) projects.

The nationwide collection of data about AD facilities processing food waste began in 2017 with a survey of all known AD facilities under the currently approved Information Collection Request (ICR). EPA published the first annual report of findings based on this data in July 2018. EPA is renewing this ICR in order to continue to monitor growth and evaluate trends in the capacity for processing of food waste and the amount of food waste being processed via AD in the United States.

Data will be collected using electronic surveys that will be distributed to respondents by email and will be available on EPA's AD website. Participation in this data collection effort is voluntary. Respondents are not required to reveal confidential business information.

Form Numbers: EPA Form 6700-03, EPA Form 6700-04, EPA Form 6700-05

Respondents/affected entities: Project Developers, Project Owners or Plant Operators, and Livestock Farmers.

Respondent's obligation to respond: Voluntary.

Estimated number of respondents: 254 (total).

Frequency of response: Annually.

Total estimated burden: 127 hours (per year). Burden is defined at 5 CFR 1320.03(b).

Total estimated cost: $7,594 (per year), includes $0 annualized capital or operation & maintenance costs.

Changes in the Estimates: The overall burden has slightly decreased from the original ICR. For this renewal, some questions have been revised for clarity, numerous questions have been eliminated and a series of questions have been streamlined. The time to complete the survey will decrease for operating years 2017, 2018, 2019 and 2020 for Respondents that previously provided data.

Courtney Kerwin,
Director, Regulatory Support Division.

[FR Doc. 2019-10705 Filed 5-21-19; 8:45 am]

BILLING CODE 6560-50-P